DEPARTMENT OF ENERGY

Federal Energy Regulatory Commission

Combined Notice of Filings #1

Take notice that the Commission received the following electric corporate filings:

Docket Numbers: EC12-130-000.

Applicants: Viridity Energy Inc.

Description: Viridity Energy, Inc. submits additional information in support of the Application filed on 8/3/12.

Filed Date: 8/28/12.

Accession Number: 20120828-5117.

Comments Due: 5 p.m. ET 9/4/12.

Take notice that the Commission received the following electric rate filings:

Docket Numbers: ER12-1102-000; AC12-38-000.

Applicants: Entergy Services, Inc.

Description: Supplemental Information of Entergy Services, Inc.

Filed Date: 8/28/12.

Accession Number: 20120828-5135.

Comments Due: 5 p.m. ET 9/18/12.

Docket Numbers: ER12-1823-001.

Applicants: Southern California Edison Company.

Description: 2010 CWIP Compliance Filing to be effective 6/1/2010.

Filed Date: 8/28/12.

Accession Number: 20120828-5105.

Comments Due: 5 p.m. ET 9/18/12.

Docket Numbers: ER12-2535-000.

Applicants: PJM Interconnection, L.L.C.

Description: 2nd Quarter 2012 Updates to PJM Operating Agreement and RAA Membership List to be effective 6/30/2012.

Filed Date: 8/28/12.

Accession Number: 20120828-5102.

Comments Due: 5 p.m. ET 9/18/12.

Docket Numbers: ER12-2536-000.

Applicants: Frontier El Dorado Refining LLC.

Description: Application for Market Based Rate Authority to be effective 11/1/2012.

Filed Date: 8/28/12.

Accession Number: 20120828-5109.

Comments Due: 5 p.m. ET 9/18/12.

Docket Numbers: ER12-2537-000.

Applicants: Limon Wind, LLC.

Description: Limon Wind, LLC SFA and Assignment and Assumption Agreement to be effective 9/1/2012.

Filed Date: 8/28/12.

Accession Number: 20120828-5110.

Comments Due: 5 p.m. ET 9/18/12.

Docket Numbers: ER12-2538-000.

Applicants: Wolverine Power Supply Cooperative, Inc.

Description: Cancellation record no 1000 from filing 21 to be effective 8/28/2012.

Filed Date: 8/28/12.

Accession Number: 20120828-5111.

Comments Due: 5 p.m. ET 9/18/12.

Docket Numbers: ER12-2539-000.

Applicants: California Independent System Operator Corporation.

Description: 2012-08-28 Exceptional Dispatch & Residual Imbalance Energy Mitigation Amdt to be effective 8/29/2012.

Filed Date: 8/28/12.

Accession Number: 20120828-5112.

Comments Due: 5 p.m. ET 9/18/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2012.
Nathaniel J. Davis, Sr.,
Deputy Secretary.

[FR Doc. 2012-21775 Filed 9-4-12; 8:45 am]

BILLING CODE 6717-01-P